DEPARTMENT OF COMMERCE

National Oceanic and Atmospheric Administration

RIN 0648-XV53

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits, Conservation and Education Division, Office of Protected Resources, NMFS, 1315 East-West Highway, Room 13705, Silver Spring, MD 20910; phone (301)713-2289; fax (301)713-0376.

FOR FURTHER INFORMATION CONTACT: Office of Protected Resources, Permits Division, (301)713-2289.

SUPPLEMENTARY INFORMATION: The requested Letters of Confirmation (LOC) have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation were issued in Fiscal Year 2009.

File No. 13729: Issued to The Wild Dolphin Project, 612 N. Orange Ave. Suite A-12, Jupiter, FL 33458 on February 13, 2009, to study abundance, distribution, and residency of bottlenose dolphins (Tursiops truncatus) in the Intracoastal Waterway of Palm Beach County, Florida, and to determine species diversity, abundance, and distribution of cetaceans offshore of Palm Beach County, Florida. The LOC expires February 28, 2014.

File No. 14227: Issued to Dr. Robert H. Day, ABR, Inc. Environmental Research and Services, Fairbanks, AK 99708 on February 13, 2009, to study seasonal abundance and distribution of marine mammals in Cook Inlet, Alaska. Aerial surveys will be conducted to census harbor seals (Phoca vitulina), harbor porpoise (Phocoena phocoena), Dall's porpoise (Phocoenoides dalli), minke whales (Balaenoptera acutorstrata), gray whales (Eschrichtius robustus), and killer whales (Orcinus orca). The LOC expires on February 17, 2014.

File No. 14157: Issued to Marilyn Mazzoil, Harbor Branch Oceanographic Institute at Florida Atlantic University, 5600 U.S. 1 North, Fort Pierce, FL 34946 on February 23, 2009, for vessel surveys, photo-identification, and behavioral observations of bottlenose dolphins from the Florida-Georgia border south to New Smyrna Beach, Florida. The objectives of the research are to examine the abundance and distribution of bottlenose dolphins in the study area. Activities may be conducted through March 1, 2014.

File No. 14219: Issued to Dr. Tara Cox, Savannah State University, PO Box 20467, Savannah, GA 31404 on February 23, 2009, for surveys, photo-identification, and behavioral observations of bottlenose dolphins. The purpose of the research is to investigate foraging ecology, social structure, and population structure of dolphins in the estuarine and coastal waters of Georgia and southern South Carolina. Activities may be conducted through March 1, 2014.

File No. 14275: Issued to Dr. Gregory Bossart, Georgia Aquarium, 225 Baker Street, NW, Atlanta, GA 30313 on February 23, 2009, for surveys, photo-identification and behavioral observations of bottlenose dolphins. The purpose of the research is to examine the abundance, distribution, and stock structure of dolphins in the Indian River Lagoon, Florida and adjacent Atlantic waters. Activities may be conducted through March 1, 2014.

File No. 808-1798-01: Issued to Dr. Andrew Read at Duke University Marine Laboratory, 135 Duke Marine Lab Road, Beaufort, NC 28516 on May 1, 2009, for aerial and vessel surveys, photo-identification, behavioral observations, and passive acoustics on a variety of cetacean species through September 30, 2010. The original study area was from the North Carolina/Virginia border south to North Charleston, South Carolina. The study area was expanded to allow researchers to work further south, to 29 degrees N. Also, 13 species of dolphins and whales were added to the LOC. This amended LOC supercedes version 808-1798 issued on September 20, 2005.

File No. 14348: Issued to the National Ocean Service's Center for Coastal Environmental Health and Biomolecular Research [Principal Investigator: Eric Zolman], 219 Fort Johnson Road, Charleston, SC 29412 on July 1, 2009 for photo-identification and behavioral observations of bottlenose dolphins through June 30, 2014. The purpose of the research is to investigate the residency, stock identity, range, distribution, abundance, and health of dolphins in the estuarine and coastal waters of Georgia and South Carolina.

File No. 14590: Issued to the National Marine Mammal Laboratory [Principal Investigator: Peter Boveng, Ph.D], 7600 Sand Point Way NE, Seattle, WA 98115 on July 24, 2009 for aerial surveys of harbor seals through August 1, 2014. The results of the surverys for the basis of the NMFS Stock Assessment Reports as well as provide information on the haul-out behavior and habitat requirements of harbor seals in Alaska. The LOC expires August 1, 2014.

File No. 14475: Issued to The Dolphin Project (TDP) [Principal Investigator: Francis Lapolla], P.O. Box 60753, Savannah, GA 31420, on August 7, 2009 for photo-identification and behavioral observations of bottlenose dolphins through July 30, 2014. The purpose of the research is to: (1) monitor the resident bottlenose dolphin population in the contiguous inland waters of Georgia and the southern South Carolina estuarine system and (2) continue to develop TDP's dorsal fin photograph catalogue and database to document site fidelity, home range movement, immigration/emigration and social behaviors exhibited by the Georgia estuarine population.

In compliance with the National Environmental Policy Act of 1969 (42 U.S.C. 4321 et seq.), a final determination has been made that the activities are categorically excluded from the requirement to prepare an environmental assessment or environmental impact statement.

Dated: March 23, 2010.
Tammy C. Adams,
Acting Chief, Permits, Conservation and Education Division, Office of Protected Resources, National Marine Fisheries Service.

[FR Doc. 2010-7062 Filed 3-29-10; 8:45 am]

BILLING CODE 3510-22-S